DEPARTMENT OF THE INTERIOR

Bureau of Reclamation

Folsom Lake State Recreation Area and Folsom Power House State Historic Park General Plan/Resource Management Plan

AGENCY: Bureau of Reclamation, Interior.

ACTION: Notice of availability of the Final Environmental Impact Statement/Environmental Impact Report (EIS/EIR).

SUMMARY: Pursuant to the National Environmental Policy Act (NEPA) of 1969 (as amended) and the California Environmental Quality Act (CEQA), the Bureau of Reclamation (Reclamation) and the California Department of Parks and Recreation (State Parks) as lead agencies have made available for public review and comment a joint Final EIS/EIR for the Folsom Lake State Recreation Area and Folsom Power House State Historic Park General Plan/Resource Management Plan (GP/RMP). The GP/RMP involves alternatives for future use of the project area for recreation and resource protection and management.

A Notice of Availability of the joint Draft EIS/EIR was published in the Federal Register on February 5, 2008 (73 FR 6736). The written comment period on the Draft EIS/EIR ended on May 30, 2008. The Final EIS/EIR contains responses to all comments received and reflects comments and any additional information received during the review period.

DATES: Reclamation will not make a decision on the proposed action until at least 30 days after release of the Final EIS/EIR. After the 30-day waiting period, Reclamation will complete a Record of Decision (ROD). The ROD will state the action that will be implemented and will discuss all factors leading to the decision.

ADDRESSES: Send requests for a compact disk or a bound copy of the Final EIS/EIR to Jim Micheaels, Senior Park and Recreation Specialist, State Parks, 7806 Folsom-Auburn Road, Folsom, CA 95630; telephone: 916-988-0513.

Copies of the Final GP/RMP and EIS/EIR will be available for review at: http://www.usbr.gov/mp/nepa/nepa_projdetails.cfm?PROJECT_ID=543 and at the State Parks Web site at http://www.parks.ca.gov/?page_id=22322.

See SUPPLEMENTARY INFORMATION section for locations where copies of the Final EIS/EIR are available for public review.

FOR FURTHER INFORMATION CONTACT: Walter Clevenger, Natural Resources Specialist, Reclamation, at 916-989-7173; or Jim Micheaels, Senior Park and Recreation Specialist, State Parks, at 916-988-0513.

SUPPLEMENTARY INFORMATION: The GP/RMP is being prepared for the Folsom Lake State Recreation Area through a cooperative agreement between Reclamation and State Parks.

This planning activity encompasses approximately 20,000 acres of publicly accessible water and land owned by Reclamation and managed by State Parks' Gold Fields District. The GP/RMP will be the primary management document for the park unit, providing a defined purpose, vision, long-term goals, and management guidelines. It will be used by State Parks as a framework for guiding decision-making related to future development potential, on-going management, and public use of the Folsom Lake State Recreation Area.

The GP/RMP attempts to enhance and expand the recreation opportunities while also providing more active protection and management of natural and cultural resources. The GP/RMP is intended to be implemented over an extended period as determined by both user demand and need. To do so, the GP/RMP provides both park wide goals and guidelines relating to natural, cultural and visual resources, water quality, circulation, visitor services, interpretation and operations as well as direction for specific zones of the park. The GP/RMP designates 34 geographic management zones, with 12 on Lake Natoma and 22 on Folsom Lake. Each zone has a specific management emphasis and is designated with one of five land use designations: Recreation-High, Recreation-Medium, Low Intensity Recreation/Conservation, Preservation, or Administration.

The EIS/EIR is a program-level analysis of the potential environmental impacts associated with adoption of the GP/RMP. The GP/RMP is intended to be predominantly self-mitigating through implementation of GP/RMP policies and management strategies, and the EIS/EIR also includes measures intended to reduce the adverse effects of the GP/RMP.

Copies of the Final EIS/EIR are available for public review at the following locations:

• California State Parks, Folsom Lake SRA Office, 7755 Folsom Auburn Road, Folsom, CA 95630.

• Sacramento Central Library, 828 I Street, Sacramento, CA 95542.

• Folsom Public Library, Georgia Murray Building, 411 Stafford Street, Folsom, CA 95630.

• El Dorado County Main library, 345 Fair Lane, Placerville, CA 95667.

• El Dorado County Library/El Dorado Hills Branch, 7455 Silva Valley Parkway, El Dorado Hills, CA 95762.

• Placer County Library, Auburn Branch, 350 Nevada Street, Auburn, CA 95603.

• Placer County Library, Granite Bay Branch, 6475 Douglas Boulevard, Granite Bay, CA 95746 .

Before including your name, address, phone number, e-mail address, or other personal identifying information in any correspondence, you should be aware that your entire correspondence—including your personal identifying information—may be made publicly available at any time. While you can ask us in your correspondence to withhold your personal identifying information from public review, we cannot guarantee that we will be able to do so.

Dated: October 23, 2009.
Pablo R. Arroyave,
Deputy Regional Director, Mid-Pacific Region.

[FR Doc. 2010-1501 Filed 1-25-10; 8:45 am]

BILLING CODE 4310-MN-P